DEPARTMENT OF AGRICULTURE

Food Safety and Inspection Service

[Docket No. FSIS-2023-0014]

National Advisory Committee on Microbiological Criteria for Foods; Notice of Public Meeting

AGENCY: Food Safety and Inspection Service (FSIS), U.S. Department of Agriculture (USDA).

ACTION: Notice of public meeting.

SUMMARY: The National Advisory Committee on Microbiological Criteria for Foods (NACMCF) will hold a public meeting of the full Committee and Subcommittees from May 16, 2023 to May 18, 2023. The Committee will provide updates on the charges related to Cyclospora cayetanensis in produce and Cronobacter spp. in Powdered Infant Formula.

DATES: The full Committee will hold an in-person and virtual public meeting on Tuesday, May 16, 2023, from 10 a.m. to 12 p.m. The Subcommittees on Cyclospora cayetanensis in produce and on Cronobacter spp. in Powdered Infant Formula will hold concurrent Subcommittee meetings on Tuesday, May 16, 2023, from 1 to 5 p.m., as well as on Wednesday, May 17, 2023, and Thursday, May 18, 2023, from 9 a.m. to 5 p.m., respectively. The deadline to register to provide verbal comments is May 8, 2023.

FSIS invites interested persons to submit written comments on the Cyclospora cayetanensis in produce and on the Cronobacter spp. in Powdered Infant Formula charges. The deadline to submit comments is May 8, 2023.

ADDRESSES: The meetings will be held in the USDA South Building, 1400 Independence Ave. SW, Washington, DC 20250. Room locations will be provided the day of the meeting. Virtual attendees will be provided details on how to access the full Committee and Subcommittee meetings upon registration.

In-person attendees must show valid photo identification and will be required to pass through the security screening systems and escorted to the respective conference rooms. Please allow adequate time for this process.

Attendance is free. Attendees must pre-register at https://ems8.intellor.com/?do=register&t=1&p=847719. FSIS requests that those interested in providing public comments at the May 16, 2023, full Committee session indicate this when registering. Comments will be limited to three minutes per speaker. FSIS will do its best to accommodate all registered persons who request to provide verbal comments at the plenary meeting.

Comments may be submitted by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- Or Courier-Delivered Submittals: Deliver to 1400 Independence Avenue SW, Jamie L. Whitten Building, Room 350-E, Washington, DC 20250-3700.

Instructions: All items submitted by mail or electronic mail must include the Agency name and docket number FSIS-2023-0014. Comments received in response to this docket will be made available for public inspection and posted without change, including any personal information, to https://www.regulations.gov.

Docket: For access to background documents or comments received, call (202) 937-4272 to schedule a time to visit the FSIS Docket Room at 1400 Independence Avenue SW, Washington, DC 20250-3700.

Agenda: FSIS will finalize an agenda on or before the meeting date and post it on FSIS' website at https://www.fsis.usda.gov/news-events/events-meetings.

Please note that the meeting agenda is subject to change and sessions could end earlier or later than anticipated. Please plan accordingly if you would like to attend this meeting or participate in the public comment period.

The official transcript of the May 16, 2023 Committee meeting, when it becomes available, will also be posted on FSIS' website at https://www.fsis.usda.gov/news-events/events-meetings.

FOR FURTHER INFORMATION CONTACT: Dr. Kristal Southern, USDA, FSIS, Office of Public Health Science, 1400 Independence Avenue SW, Room 1128, Washington, DC 20250; Phone: (202) 937-4171 or Email: NACMCF@usda.gov.

Persons requiring a sign language interpreter or other special accommodations should notify Dr. Southern by May 5, 2023.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available on FSIS' website at https://www.fsis.usda.gov/policy/advisory-committees/national-advisory-committee-microbiological-criteria-foods-nacmcf. The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the Departments of Commerce and Defense. The Committee reports to the Secretary of Agriculture through the Under Secretary for Food Safety, the Committee's Chair, and to the Secretary of Health and Human Services through the Assistant Secretary for Health, the Committee's Vice-Chair. Currently, Dr. José Emilio Esteban, Under Secretary for Food Safety, USDA, is the Committee Chair; Dr. Susan T. Mayne, Director of the Food and Drug Administration's Center for Food Safety and Applied Nutrition (CFSAN), is the Vice-Chair; and Dr. Kristal Southern, FSIS, is the Director of the NACMCF Secretariat and Designated Federal Officer.

NACMCF documents and comments posted on the FSIS website are electronic conversions from a variety of source formats. In some cases, document conversion may result in character translation or formatting errors. The original document is the official, legal copy. To meet the electronic and information technology accessibility standards in Section 508 of the Rehabilitation Act, NACMCF may add alternate text descriptors for non-text elements (graphs, charts, tables, multimedia, etc.). These modifications only affect the internet copies of the documents. Copyrighted documents will not be posted on FSIS' website but will be available for inspection in the FSIS Docket Room.

Additional Public Notification

Public awareness of all segments of rulemaking and policy development is important. Consequently, FSIS will announce this Federal Register publication through the FSIS website located at https://www.fsis.usda.gov/policy/federal-register-rulemaking/federal-register-notices. FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at https://www.fsis.usda.gov/news-events/news-press-releases/news-feeds-subscriptions. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form, AD-3027, USDA Program Discrimination Complaint Form, which can be obtained online at https://www.usda.gov/forms/electronic-forms, from any USDA office, by calling (866) 632-9992, or by writing a letter addressed to USDA. The letter must contain the complainant's name, address, telephone number, and a written description of the alleged discriminatory action in sufficient detail to inform the Assistant Secretary for Civil Rights about the nature and date of an alleged civil rights violation. The completed AD-3027 form or letter must be submitted to USDA by: (1) Mail: U.S. Department of Agriculture, Office of the Assistant Secretary for Civil Rights, 1400 Independence Avenue SW, Washington, DC 20250-9410; (2) Fax: (833) 256-1665 or (202) 690-7442; or (3) Email: program.intake@usda.gov.

USDA is an equal opportunity provider, employer, and lender.

Dated: April 25 2023.
Cikena Reid,
Committee Management Officer, United States Department of Agriculture.

[FR Doc. 2023-09111 Filed 4-28-23; 8:45 am]

BILLING CODE 3410-DM-P